DEPARTMENT OF HOUSING AND URBAN DEVELOPMENT

[Docket No. FR-5580-N-01]

HUD Draft Environmental Justice Strategy

AGENCY: Office of the Sustainable Housing and Communities, HUD.

ACTION: Notice.

SUMMARY: Through this notice, HUD announces the release of its draft Environmental Justice Strategy for review and comment.

DATES: Comment Due Date: November 14, 2011. Comments may be submitted to EJStrategy@hud.gov.

FOR FURTHER INFORMATION CONTACT: Kathryn Dykgraaf Office of Sustainable Housing and Communities, Department of Housing and Urban Development, 451 7th Street, SW., Room, Washington, DC 20410; telephone number 202-402-6731 (this is not a toll-free number). Persons with hearing or speech impairments may access this number through TTY by calling the toll-free Federal Relay Service at 800-877-8339.

SUPPLEMENTARY INFORMATION

I. Background

HUD is committed to meeting the goals of Executive Order 12898, “Federal Actions to Address Environmental Justice in Minority Populations and Low-Income Populations,” which states that each federal agency, with the law as its guide, should make environmental justice part of its mission. In this regard, HUD has developed its draft Environmental Justice Strategy (EJ Strategy). HUD's EJ Strategy is a four-year plan to address environmental justice concerns and increase access to environmental benefits through HUD policies, programs, and activities. HUD's EJ strategy can be found at http://portal.hud.gov/hudportal/HUD?src=/program_offices/sustainable_housing_communities/HUD_Draft_Environmental_Justice_Strategy.

The release of the draft is the latest step in a larger Administration-wide effort to ensure strong protection from environmental and health hazards for all Americans. In August, federal agencies signed the “Memorandum of Understanding on Environmental Justice and Executive Order 12898” (EJ MOU), which committed each agency to, among other things, finalizing an EJ strategy and releasing annual implementation reports. Links to the other federal EJ Strategies can be found on the Environmental Justice Interagency Workgroup Web page at http://www.epa.gov/environmentaljustice/interagency/index.html. Links will be available by Friday, October 7th.

HUD's draft EJ Strategy will be open for public until November 14, 2011. Comments can be submitted by e-mailing EJStrategy@hud.gov. HUD will review the comments submitted, and is targeting finalization of the strategy by February 2012. After the strategy is issued in final, HUD and its federal partners will continue to engage stakeholders through outreach, education and stakeholder events and respond to public comments through annual implementation reports.

Dated: September 30, 2011.
Shelley R. Poticha,
Director.

[FR Doc. 2011-25938 Filed 10-6-11; 8:45 am]

BILLING CODE 4210-67-P